DEPARTMENT OF HEALTH AND HUMAN SERVICES

Centers for Disease Control and Prevention

[Program Announcement 02128]

Targeted Injury Intervention Programs; Notice of Availability of Funds; Amendment

A notice announcing the availability of Fiscal Year 2002 funds for a cooperative agreement for Targeted Injury Intervention Programs was published in the Federal Register dated May 9, 2002, Vol. 67, No. 90, pages 31331-31334. Page 31332, Section F. Submission and Deadline, Application, Paragraph 2, line 1, should be changed to read: “On or before 5 p.m. Eastern Standard Time on July 8, 2002, submit the application * * *”

Dated: June 18, 2002.
Edward Schultz,
Acting Director, Procurement and Grants Office, Centers for Disease Control and Prevention.

[FR Doc. 02-15828 Filed 6-21-02; 8:45 am]

BILLING CODE 4163-18-P